NUCLEAR REGULATORY COMMISSION

Draft Regulatory Guide: Issuance, Availability

The U.S. Nuclear Regulatory Commission (NRC) has issued for public comment a draft guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide, entitled “Minimization of Contamination and Radioactive Waste Generation in Support of Decommissioning,” is temporarily identified by its task number, DG-4012, which should be mentioned in all related correspondence.

The issuance of the final rule for Subpart E, “Radiological Criteria for License Termination,” of Title 10, Part 20, “Standards for Protection Against Radiation,” of the Code of Federal Regulations (10 CFR part 20), published in Volume 62 of the Federal Register on July 21, 1997 (62 FR 39058-92), included specific requirements in 10 CFR 20.1406, “Minimization of Contamination,” for the submission of information by license applicants with regard to design and operational procedures for minimizing contamination of the facility and the environment and for minimizing radioactive waste generation and facilitating decommissioning. As specifically stated, “Applicants for licenses, other than renewals, after August 20, 1997, shall describe in the application how facility design and procedures for operation will minimize, to the extent practicable, contamination of the facility and the environment, facilitate eventual decommissioning, and minimize, to the extent practicable, the generation of radioactive waste.” Therefore, a license applicant should consider the total life cycle of the facility, from initial facility layout and design to programs and procedures for operation to final decontamination and dismantling at the time of decommissioning. During the operating life of a facility, the design and operating procedures might change, but the objectives of 10 CFR 20.1406 need to be addressed. The purpose of this regulatory guide is to present guidance that will assist license applicants in effectively implementing this licensing requirement.

The NRC staff is soliciting comments on Draft Regulatory Guide DG-4012. Comments may be accompanied by relevant information or supporting data, and should mention DG-4012 in the subject line. Comments submitted in writing or in electronic form will be made available to the public in their entirety through the NRC's Agencywide Documents Access and Management System (ADAMS). Personal information will not be removed from your comments. You may submit comments by any of the following methods.

Mail comments to: Rulemaking, Directives, and Editing Branch, Office of Administration, U.S. Nuclear Regulatory Commission, Washington, DC 20555-0001.

E-mail comments to: NRCREP@nrc.gov. You may also submit comments via the NRC's rulemaking Web site at http://ruleforum.llnl.gov. Address questions about our rulemaking Web site to Carol A. Gallagher (301) 415-5905; e-mail CAG@nrc.gov.

Hand-deliver comments to: Rulemaking, Directives, and Editing Branch, Office of Administration, U.S. Nuclear Regulatory Commission, 11555 Rockville Pike, Rockville, Maryland 20852, between 7:30 a.m. and 4:15 p.m. on Federal workdays.

Fax comments to: Rulemaking, Directives, and Editing Branch, Office of Administration, U.S. Nuclear Regulatory Commission at (301) 415-5144.

Requests for technical information about Draft Regulatory Guide DG-4012 may be directed to NRC Senior Program Manager, Edward O'Donnell, at (301) 415-6265 or e-mail EXO@nrc.gov.

Comments would be most helpful if received by November 1, 2007. Comments received after that date will be considered if it is practical to do so, but the NRC is able to ensure consideration only for comments received on or before this date. Although a time limit is given, comments and suggestions in connection with items for inclusion in guides currently being developed or improvements in all published guides are encouraged at any time.

Electronic copies of Draft Regulatory Guide DG-4012 are available through the NRC's public Web site under Draft Regulatory Guides in the Regulatory Guides document collection of the NRC's Electronic Reading Room at http://www.nrc.gov/reading-rm/doc-collections/. Electronic copies are also available in ADAMS (http://www.nrc.gov/reading-rm/adams.html), under Accession #ML071210011.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov. Requests for single copies of draft or final guides (which may be reproduced) should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 15 day of June, 2007.
For the U.S. Nuclear Regulatory Commission.
Jimi T. Yerokun,
Chief, Risk Applications and Special Projects Branch, Division of Risk Assessment and Special Projects, Office of Nuclear Regulatory Research.

[FR Doc. E7-14718 Filed 7-30-07; 8:45 am]

BILLING CODE 7590-01-P